DEPARTMENT OF HOMELAND SECURITY

Federal Emergency Management Agency

44 CFR Part 67

[Docket ID FEMA-2013-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
LaGrange County, Indiana, and Incorporated Areas
Docket No.: FEMA-B-1175
Basin Lake | Entire shoreline | +902 | Unincorporated Areas of LaGrange County.
Big Long Lake | Entire shoreline | +957 | Unincorporated Areas of LaGrange County.
Big Turkey Lake | Entire shoreline within community | +932 | Unincorporated Areas of LaGrange County.
Cedar Lake | Entire shoreline | +974 | Unincorporated Areas of LaGrange County.
Dallas Lake | Entire shoreline | +901 | Unincorporated Areas of LaGrange County.
Fish Lake | Entire shoreline | +940 | Unincorporated Areas of LaGrange County.
Goose Pond | Entire shoreline | +953 | Unincorporated Areas of LaGrange County.
Hackenburg Lake | Entire shoreline | +901 | Unincorporated Areas of LaGrange County.
Lake of the Woods | Entire shoreline within community | +953 | Unincorporated Areas of LaGrange County.
Little Turkey Lake | Entire shoreline | +930 | Unincorporated Areas of LaGrange County.
Martin Lake | Entire shoreline | +902 | Unincorporated Areas of LaGrange County.
McClish Lake | Entire shoreline within community | +953 | Unincorporated Areas of LaGrange County.
Messick Lake | Entire shoreline | +901 | Unincorporated Areas of LaGrange County.
North Twin Lake | Entire shoreline | +846 | Unincorporated Areas of LaGrange County.
Olin Lake | Entire shoreline | +902 | Unincorporated Areas of LaGrange County.
Oliver Lake | Entire shoreline | +902 | Unincorporated Areas of LaGrange County.
Pigeon Lake | Entire shoreline | +848 | Unincorporated Areas of LaGrange County.
Pretty Lake | Entire shoreline | +967 | Unincorporated Areas of LaGrange County.
Royer Lake | Entire shoreline | +940 | Unincorporated Areas of LaGrange County.
Smith Hole | Entire shoreline | +902 | Unincorporated Areas of LaGrange County.
South Twin Lake | Entire shoreline | +846 | Unincorporated Areas of LaGrange County.
Spectacle Lakes | Entire shoreline | +953 | Unincorporated Areas of LaGrange County.
Westler Lake | Entire shoreline | +901 | Unincorporated Areas of LaGrange County.
Witmer Lake | Entire shoreline | +901 | Town of Wolcottville, Unincorporated Areas of LaGrange County.
* National Geodetic Vertical Datum.
+ North American Vertical Datum.
# Depth in feet above ground.
‸ Mean Sea Level, rounded to the nearest 0.1 meter.
ADDRESSES
Town of Wolcottville
Maps are available for inspection at e LaGrange County Annex Building, 114 West Michigan Street, LaGrange, IN 46761.
Unincorporated Areas of LaGrange County
Maps are available for inspection at e LaGrange County Annex Building, 114 West Michigan Street, LaGrange, IN 46761.
Sauk County, Wisconsin, and Incorporated Areas
Docket No.: FEMA-B-1229
Baraboo River | At the Columbia County boundary | +804 | City of Baraboo, City of Reedsburg, Unincorporated Areas of Sauk County, Village of La Valle, Village of North Freedom, Village of Rock Springs, Village of West Baraboo.
| At the Juneau County boundary | +912
Devil's Lake Tributary (backwater effects from Baraboo River) | At the Baraboo River confluence | +820 | City of Baraboo.
| Approximately 780 feet downstream of Old Lake Road | +820
Hay Creek (backwater effects from Baraboo River) | Approximately 75 feet downstream of County Highway V | +882 | City of Reedsburg, Unincorporated Areas of Sauk County.
| Approximately 1,860 feet upstream of County Highway V | +882
Little Baraboo River (backwater effects from Baraboo River) | At the Baraboo River confluence | +895 | Unincorporated Areas of Sauk County, Village of La Valle.
| Approximately 70 feet downstream of State Highway 58 | +895
Narrows Creek (backwater effects from Baraboo River) | At the Baraboo River confluence | +872 | Unincorporated Areas of Sauk County, Village of Rock Springs.
| At the downstream side of State Highway 154 | +872
Plum Creek (backwater effects from Baraboo River) | At the Baraboo River confluence | +912 | Unincorporated Areas of Sauk County.
| Approximately 0.78 mile upstream of the Baraboo River confluence | +912
Seeley Creek (backwater effects from Baraboo River) | At the Baraboo River confluence | +865 | Unincorporated Areas of Sauk County.
| Approximately 1,450 feet downstream of Freedom Road | +865
* National Geodetic Vertical Datum.
+ North American Vertical Datum.
# Depth in feet above ground.
‸ Mean Sea Level, rounded to the nearest 0.1 meter.
ADDRESSES
City of Baraboo
Maps are available for inspection at City Hall, 135 4th Street, Baraboo, WI 53913.
City of Reedsburg
Maps are available for inspection at City Hall, 134 South Locust Street, Reedsburg, WI 53959.
Unincorporated Areas of Sauk County
Maps are available for inspection at West Square Building, 505 Broadway, Baraboo, WI 53913.
Village of La Valle
Maps are available for inspection at Village Hall, 103 West Main Street, La Valle, WI 53941.
Village of North Freedom
Maps are available for inspection at Village Hall, 103 North Maple Street, North Freedom, WI 53951.
Village of Rock Springs
Maps are available for inspection at Village Hall, 101 1st Street, Rock Springs, WI 53961.
Village of West Baraboo
Maps are available for inspection at Village Hall, 500 Cedar Street, Baraboo, WI 53913.
Washington County, Wisconsin, and Incorporated Area
Docket No.: FEMA-B-7755
Edgewood Creek | At the confluence with North Creek | +947 | Unincorporated Areas of Washington County, Village of Kewaskum.
| Approximately 1,120 feet upstream of Kewaskum Village Limits | +981
Overflow | Approximately 115 feet downstream of Clinton Road | +937 | Unincorporated Areas of Washington County, Village of Kewaskum.
| At confluence with Edgewood Creek | +951
Kettleview Creek | At the confluence with Kewaskum Creek | +940 | Unincorporated Areas of Washington County, Village of Kewaskum.
| Downstream side of County Highway B | +1025
Kewaskum Creek | Just downstream of County Road H | +938 | Unincorporated Areas of Washington County, Village of Kewaskum.
| Approximately 800 feet downstream of Badger Road | +998
Overflow | At the confluence with Kettleview Creek | +946 | Unincorporated Areas of Washington County.
| At the confluence with Kewaskum Creek | +952
Knights Creek | At the confluence with North Creek | +952 | Unincorporated Areas of Washington County, Village of Kewaskum.
| Approximately 725 feet downstream of Highland Drive | +1032
Milwaukee River | Approximately 225 feet upstream of River Road | +887 | Unincorporated Areas of Washington County, City of West Bend.
| Downstream side of Barton Avenue | +902
| Upstream side of Hickory Road | +835 | Unincorporated Areas of Washington County, Village of Newburg.
| Approximately 2,900 feet upstream of Main Street | +850
North Creek | At the confluence with the Milwaukee River | +938 | Unincorporated Areas of Washington County, Village of Kewaskum.
| Approximately 100 feet downstream of Highland Drive | +1042
Quaas Creek | Just upstream of County Highway I | +875 | Unincorporated Areas of Washington County, City of West Bend.
| Approximately 285 feet downstream of Paradise Drive | +979
Unnamed Tributary to Kewaskum Creek | At the confluence with Kewaskum Creek | +955 | Unincorporated Areas of Washington County.
| Approximately 350 feet downstream of Kettleview Drive | +979
Wingate Creek | Just downstream of State Highway 33 | +870 | Unincorporated Areas of Washington County, City of West Bend.
| Approximately 420 feet downstream of Wallace Lake Road | +904
* National Geodetic Vertical Datum.
+ North American Vertical Datum.
# Depth in feet above ground.
‸ Mean Sea Level, rounded to the nearest 0.1 meter.
ADDRESSES
City of West Bend
Maps are available for inspection at City Hall, 1115 South Main Street, West Bend, WI 53095.
Unincorporated Areas of Washington County
Maps are available for inspection at County Building, 432 East Washington Street, West Bend, WI 53095.
Village of Kewaskum
Maps are available for inspection at Village Hall, 204 First Street, Kewaskum, WI 53040.
Village of Newburg
Maps are available for inspection at Village Hall, 614 Main Street, Newburg, WI 53060.

(Catalog of Federal Domestic Assistance No. 97.022, “Flood Insurance.”)

Date: June 28, 2013.
Roy E. Wright,
Deputy Associate Administrator for Mitigation, Department of Homeland Security, Federal Emergency Management Agency.

[FR Doc. 2013-17443 Filed 7-19-13; 8:45 am]

BILLING CODE 9110-12-P